DEPARTMENT OF STATE

[Public Notice: 10135]

Determination Pursuant to the Foreign Missions Act

Pursuant to the authority vested in me as the Secretary of State under the Foreign Missions Act, 22 U.S.C. 4301 et seq. (“the Act”), I hereby determine it is reasonably necessary to achieve one or more of the purposes set forth in section 204(b) of the Act (22 U.S.C. 4304(b)) to designate 353 Lexington Ave, Suite 1500, New York, NY 10016, which is leased by the Government of the Russian Federation, as a location and facilities for which entry or access is strictly prohibited by any and all representatives or employees of the Russian Government and their dependents, or persons acting on their behalf, without first obtaining written permission from the Department of State's Office of Foreign Missions. Such prohibitions will take effect as of 2:00 p.m. Eastern Daylight Time on September 2, 2017.

As a result, any and all representatives or employees of the Russian Government and their dependents, or persons acting on their behalf, are required to depart the premises no later than the date and time stated above.

Access to the property by the persons listed above will be subject to terms and conditions set forth by the Office of Foreign Missions.

Rex W. Tillerson,
Secretary of State.

[FR Doc. 2017-20270 Filed 9-21-17; 8:45 am]

BILLING CODE 4710-05-P